NATIONAL AERONAUTICS AND SPACE ADMINISTRATION

[Notice: 00-068]

National Environmental Policy Act; Ames Development Plan for NASA Ames Research Center

AGENCY: National Aeronautics and Space Administration (NASA).

ACTION: Notice of intent to prepare an environmental impact statement (EIS) and conduct scoping for an Ames Development Plan (ADP) for NASA Ames Research Center (hereinafter referred to as the “Center”).

SUMMARY: Pursuant to the National Environmental Policy Act of 1969 (NEPA), as amended (42 U.S.C. 4321 et seq.), the Council on Environmental Quality Regulations for Implementing the Procedural Provisions of NEPA (40 CFR parts 1500-1508), and NASA Policy and Procedures (14 CFR part 1216 subpart 1216.3), NASA intends to conduct scoping and prepare an EIS for the proposed ADP. The ADP will include integrated development plans for the following areas within the Center: (1) A portion of the Center comprised of approximately 86 hectares (213 acres) situated between the original Center campus, the airfield, U.S. Highway 101, and U.S. Air Force controlled military housing area (hereinafter referred to as the “NASA Research Park”); (2) a portion of the Center comprised of 385 hectares (952 acres) including the airfield and lands to the east of the airfield (hereinafter referred to as “East Side-Airfield”); (3) a portion of the Center comprising 38 hectares (94.6 acres) located north of the original Center campus (hereinafter referred to as “Bay View”); and (4) that portion of the Center comprising the original 97 hectares (240 acres) Center campus (hereinafter referred to as the “ARC Facilities”). The Center is located in Santa Clara County, California. The EIS will address the environmental issues associated with the ADP and its implementation.

The ADP will focus, in part, on the NASA Research Park, proposed as a world-class, shared-use educational and research and development (R&D) campus focused on astrobiology, life sciences, space sciences, nanotechnology, information technology, and aeronautics. The goal of the NASA Research Park is to create partnerships with Federal, state, and local government agencies, universities, private industry and non-profit organizations in support of NASA's mission to conduct research on and develop new technologies. The ADP will also focus on proposed new development in Bay View and East Side-Airfield, and potential replacement of existing NASA research facilities in the ARC Facilities.

DATES: Interested parties are invited to submit written comments or environmental concerns to NASA on or before July 31, 2000 to ensure full consideration during the scoping process. Public scoping meetings will be held in the vicinity of the Center during the middle part of July 2000. The specific meeting times and locations will be published in the San Jose Mercury News and the La Oferta Review. The meeting schedule can also be obtained from Michael Mewhinney at the phone number listed below.

ADDRESSES: Comments should be submitted to Ms. Sandy Olliges, NASA Ames Research Center, Environmental Services Office, Mail Stop 218-1, Moffett Field, CA 94035-1000. While hard copy comments are preferred, comments by electronic mail may be sent to researchpark@arc.nasa.gov

FOR FURTHER INFORMATION CONTACT: Michael Mewhinney, Development and Communication Office, 650-604-3937.

SUPPLEMENTARY INFORMATION: In 1991, the Federal Base Closure and Realignment Commission decided to close Moffett Field Naval Air Station. Subsequently, the U.S. Department of Defense transferred stewardship of the property to NASA. NASA took over administration of 752 hectares (1,857 acres) of Moffett Field in 1994. The immediate issues were how to use the newly acquired land in a manner consistent with NASA's mission, and how to pay for the maintenance and operations of such a large site. These matters were originally addressed in the Moffett Field Comprehensive Use Plan (CUP) and its associated Environmental Assessment (EA), which resulted in a Finding of No Significant Impact (FONSI) in 1994. After the transfer of the property, local community leaders formed a Community Action Committee (CAC) and recommended uses for the newly acquired land. The uses proposed in the ADP are consistent with the CAC recommendations.

In addition to the activities described in the CUP, NASA now proposes to develop the NASA Research Park and other areas, which will build on the full range of existing high-technology and aviation resources at Moffett Field and create partnerships with Federal, State, and local governmental agencies, universities, private industry and non-profit organizations in support of NASA's mission to develop new technologies. With the help of these collaborative organizations, NASA proposes to develop on currently underutilized land at Moffett Field a world-class, shared-use educational and R&D campus focused on astrobiology, life sciences, space sciences, nanotechnology, information technology, and aeronautics. This new campus would further NASA's mission by providing the critical mass of scholars and engineers necessary to create a vital research and educational community focused on the advancement of human knowledge about life sciences, space sciences, nanotechnology, information technology, the Earth and space. By integrating public and private R&D efforts, the NASA Research Park would serve as a hub of technology transfer, keeping NASA researchers involved in cutting-edge technology advances, and promoting the commercial applications of NASA's basic scientific research.

Alternatives for the development at the Center to be studied in the EIS include, but are not necessarily limited to the following:

(1) Alternative 1: No action; continued current use of buildings and land.

(2) Alternative 2: Increase buildings and existing structures to 326,000 square meters from 140,000 square meters (3.5 million square feet from 1.5 million square feet) of floor space within the NASA Research Park. Proposed uses within the NASA Research Park would include: Student/faculty housing, training and residential conference facilities, offices, R&D, laboratory, museum and educational facilities. Also included in this alternative is the renovation of 46,500 square meters (500,000 square feet), including Hangar 1 for the California Air and Space Center. For Bay View, this alternative also includes 121,000 square meters (1.3 million square feet) of offices, R&D, laboratory, educational facilities and student/faculty housing. For East Side-Airfield, this alternative includes approximately 51,000 square meters (550,000 square feet) of new light industrial, R&D, office and educational facilities. For ARC Facilities, this alternative includes the renovation and replacement of approximately 46,500 square meters (500,000 square feet) for offices, R&D and laboratories. No new wind tunnels or increased aircraft operations are proposed. The existing Burrowing Owl habitat would be protected.

(3) Alternative 3: Increase buildings and existing structures to 418,000 square meters from 140,000 square meters (4.5 million square feet from 1.5 million square feet) of floor space within the NASA Research Park. Proposed uses within the NASA Research Park would include: Student/faculty housing, training and residential conference facilities, offices, R&D, laboratory, museum and educational facilities. Also included in this alternative is the renovation of 46,500 square meters (500,000 square feet), including Hangar 1 for the California Air and Space Center. For Bay View, this alternative includes no proposed development. For East Side-Airfield, this alternative includes the adaptive reuse of existing historic hangars. For ARC Facilities, this alternative includes the renovation and/or replacement of existing buildings and structures. No new wind tunnels or increased aircraft operations are proposed. The existing Burrowing Owl habitat would be protected.

(4) Alternative 4: Increase buildings and existing structures to 279,000 square meters from 140,000 square meters (3.0 million square feet from 1.5 million square feet) of floor space within the NASA Research Park. Proposed uses within the NASA Research Park would include: Student/faculty housing, training and residential conference facilities, offices, R&D, laboratory, museum and educational facilities. Also included in this alternative is the renovation of 46,500 square meters (500,000 square feet), including Hangar 1 for the California Air and Space Center. For Bay View, this alternative also includes 251,000 square meters (2.7 million square feet) of offices, R&D, laboratory, educational facilities and student/faculty housing, and elimination of the Outdoor Aerodynamic Research Facility in the northern portion of Bay View). For East Side-Airfield, this alternative would include approximately 62,000 square meters (670,000 square feet) of new light industrial, R&D, office and educational facilities. For ARC Facilities, this alternative would include the renovation and replacement of approximately 140,000 square meters (1.5 million square feet) for offices, R&D and laboratories. No new wind tunnels or increased aircraft operations are proposed. The existing Burrowing Owl habitat would be protected.

NASA is currently proceeding with a project that includes the development of a laboratory facility that was covered by a FONSI issued in 1994 for the CUP. Development under the CUP also includes renovation of portions of the Shenandoah National Historic District and other minor development.

The California Air National Guard (CANG) is proceeding with its master plan, which includes construction of a new airfield support facility. The CANG's development is covered by a separate FONSI and EA, which they issued in 1997.

No new wind tunnels or additional aircraft operations are proposed for any of the action alternatives. No development would occur in wetlands. The Bay Trail would be accommodated as part of the action alternatives.

The Center area is served by several modes of public transportation, including the Santa Clara Valley Transit Authority Light Rail, CalTrain, and bicycle paths.

The EIS will consider the full range of potential environmental impacts associated with these alternatives. Environmental issues addressed will include, but not necessarily be limited to, public policy, land use, motor vehicle traffic, air quality, infrastructure and drainage, hazardous materials and site contamination, pollution prevention, geology, biological resources, noise, aesthetics, cultural resources, socioeconomic impacts (including environmental justice), and other issues identified for emphasis during the scoping process. NASA believes that the greatest potential for environmental impact is to traffic and air quality. If the proposed development would increase relevant air emissions above 100 tons per year, NASA would conduct a detailed general conformity determination, pursuant to the Clean Air Act.

NASA will consult with the State Historic Preservation Office during the planning process because part of the NASA Research Park and East Side-Airfield development would be located in a historic district that is listed on the National Register of Historic Places.

Written public input and comments on environmental issues or concerns related to the development of the Center are hereby solicited.

Jeffrey E. Sutton,
Associate Administrator for Management Systems.

[FR Doc. 00-15257 Filed 6-15-00; 8:45 am]

BILLING CODE 7510-01-P